OFFICE OF SPECIAL COUNSEL

5 CFR Chapter CII

RIN 3209-AA53

Supplemental Standards of Ethical Conduct for Employees of the U.S. Office of Special Counsel

AGENCY: U.S. Office of Special Counsel (OSC).

ACTION: Final rule.

SUMMARY: The U.S. Office of Special Counsel, with the concurrence of the U.S. Office of Government Ethics (OGE), is finalizing a regulation for OSC employees that supplements the executive branch Standards of Ethical Conduct issued by OGE. The supplemental regulation requires OSC employees to seek prior approval before engaging in outside employment or activity.

DATES: This final rule is effective June 4, 2021.

FOR FURTHER INFORMATION CONTACT: Heidi R. Morrison, Alternate Designated Agency Ethics Official, U.S. Office of Special Counsel, by email at frliaison@osc.gov or by telephone at (202) 804-7000.

SUPPLEMENTARY INFORMATION:

I. Background

On July 24, 2020, OSC, with OGE's concurrence, published a proposed rule in the Federal Register, 85 FR 44789, proposing to adopt agency specific supplemental regulations requiring OSC employees to obtain prior approval before engaging in outside employment or activity. The proposed rule provided a 30-day comment period, which ended on August 24, 2020. During the comment period OSC received one comment from a member of the public.

II. Analysis of Comment Received

The comment received strongly supported robust regulations requiring OSC employees be held “to the highest ethical standards,” but did not otherwise address the substance of or suggest changes to the proposed rule. Therefore, for the reasons detailed in the preamble of the proposed rule, OSC, with the concurrence of OGE, is issuing this rule in final without changes.

III. Matters of Regulatory Procedure

Administrative Procedure Act (APA)

This action is taken under the Special Counsel's authority at 5 U.S.C. 1212(e) to publish regulations in the Federal Register.

Executive Order 12866 and Executive Order 13771

This rule is not a significant rule for purposes of Executive Order 12866 and has not been reviewed by the Office of Management and Budget. This rule is not subject to the requirements of Executive Order 13771 because this rule results in no more than de minimis costs.

Regulatory Flexibility Act (RFA)

As required by the RFA, OSC certifies that this regulation will not have a significant economic impact on a substantial number of small entities.

National Environmental Policy Act (NEPA)

This rule will have no physical impact upon the environment and therefore will not require any further review under the NEPA.

Congressional Review Act (CRA)

This rule relates to agency personnel and does not substantially affect the rights or obligations of non-agency parties. Therefore, it does not meet the definition of a “rule” at 5 U.S.C. 804 and is not subject to the procedures of the CRA.

Paperwork Reduction Act (PRA)

OSC has determined that the PRA does not apply because this regulation does not contain any information collection requirements that require the approval of the Office of Management and Budget.

List of Subjects in 5 CFR Part 10201

Conflict of interests, Government employees.

Approved: May 27, 2021.
Travis G. Millsaps,
Deputy Special Counsel for Public Policy, U.S. Office of Special Counsel.
Emory Rounds,
Director, U.S. Office of Government Ethics.

For the reasons set forth in the preamble, the U.S. Office of Special Counsel, with the concurrence of OGE, is amending title 5 of the Code of Federal Regulations by adding a new chapter CII, consisting of part 10201, to read as follows:

Title 5—Administrative Personnel

Chapter CII—U.S. Office of Special Counsel

PART 10201—SUPPLEMENTAL STANDARDS OF ETHICAL CONDUCT FOR EMPLOYEES OF THE U.S. OFFICE OF SPECIAL COUNSEL

Sec.
10201.101 General.
10201.102 Prior approval for outside employment or activity.

Authority: 5 U.S.C. 1212(e); 5 U.S.C. 7301; 5 U.S.C. App. (Ethics in Government Act of 1978); E.O. 12674, 54 FR 15159, 3 CFR, 1989 Comp., p. 215, as modified by E.O. 12731, 55 FR 42547, 3 CFR, 1990 Comp., p. 306; 5 CFR 2635.105, 2635.803.

§ 10201.101 General.

(a) Purpose. In accordance with 5 CFR 2635.105, the regulations in this part apply to employees of the U.S. Office of Special Counsel (OSC) and supplement the Standards of Ethical Conduct for Employees of the Executive Branch at 5 CFR part 2635.

(b) Other regulations, guidance, and procedures. In addition to the standards in 5 CFR part 2635 and this part, all OSC employees are required to comply with implementing guidance and procedures issued by OSC in accordance with 5 CFR 2635.105(c). OSC employees are also subject to all other government-wide regulations concerning executive branch ethics including without limitation, financial disclosure regulations contained in 5 CFR part 2634, regulations concerning financial interests contained in 5 CFR part 2640, post-employment conflict of interest restrictions contained in 5 CFR part 2641, outside earned income limitations and employment and affiliation restrictions applicable to certain noncareer employees contained in 5 CFR part 2636, and the regulations concerning executive branch employee responsibilities and conduct contained in 5 CFR part 735.

§ 10201.102 Prior approval for outside employment or activity.

(a) General requirement. Before engaging in any outside employment or activity, whether or not for compensation, an OSC employee must obtain written approval from the Designated Agency Ethics Official (DAEO) or the Alternate Designated Agency Ethics Official (ADAEO), except to the extent that OSC has issued an internal instruction pursuant to paragraph (d) of this section exempting certain employment or activities from this requirement.

Note 1 to paragraph (a). 18 U.S.C. 203(d) and 205(e) require special approval for certain representational activities in claims against the Federal Government and other matters affecting the interests of the government.

(b) Definition of “outside employment or activity”. For purposes of this section, “outside employment or activity” means any form of non-Federal employment or business relationship involving the provision of services by the employee, whether for compensation or not for compensation. It includes, but is not limited to, serving as an officer, director, employee, agent, attorney, consultant, contractor, general partner, trustee, or teacher. The definition does not include participation in the activities of a nonprofit charitable, religious, professional, social, fraternal, educational, recreational, public service, or civic organization unless such activities involve the provision of professional services or advice, or are for compensation other than reimbursement of expenses.

Note 2 to paragraph (b). Employees who wish to engage in compensated speaking or writing in a personal capacity are subject to, among other things, the provisions of 5 CFR 2635.703 (concerning use of nonpublic information) and 5 CFR 2635.807 (concerning receipt of compensation for teaching, speaking, and writing related to one's duties), and are encouraged to seek guidance from an agency ethics official before engaging in such activities. Certain covered non-career employees are also subject to further restrictions on receipt of outside compensation pursuant to section 502 of the Ethics in Government Act (5 U.S.C. app.). In addition, OSC attorneys should consult their applicable state bar rules of professional conduct.

(c) Standard for approval. Approval shall be granted by the DAEO or ADAEO upon a determination that the outside employment or activity is not expected to involve conduct prohibited by statute or Federal regulation, including 5 CFR part 2635.

(d) Implementation guidance. The DAEO or ADAEO may issue internal instructions governing the submission of requests for approval of outside employment or activity. The instructions may exempt categories of employment or activities from the prior approval requirement of this section based on a determination that those categories generally would be approved and are not likely to involve prohibited conduct or create an appearance of lack of impartiality.

[FR Doc. 2021-11720 Filed 6-3-21; 8:45 am]

BILLING CODE 7405-01-P